DEPARTMENT OF LABOR

Employment and Training Administration

[TA-W-40,600]

Fiber Tech Group Inc., Landisville, New Jersey; Notice of Termination of Investigation

Pursuant to section 221 of the Trade Act of 1974, an investigation was initiated on January 22, 2002, in response to a worker petition which was filed by a company official on behalf of workers at Fiber Tech Group Inc., Landisville, New Jersey.

The petitioner has requested that the petition be withdrawn. Consequently, further investigation in this case would serve no purpose, and the investigation has been terminated.

Signed in Washington, DC this 16th day of April, 2002.
Linda G. Poole,
Certifying Officer, Division of Trade Adjustment Assistance.

[FR Doc. 02-10048 Filed 4-23-02; 8:45 am]

BILLING CODE 4510-30-M